FEDERAL COMMUNICATIONS COMMISSION

47 CFR Part 25

[IB Docket 02-19; FCC 02-30]

Non-geostationary Satellite Orbit, Fixed Satellite Service in the Ka-band

Correction

In proposed rule document 02-5081 beginning on page 9641 in the issue of Monday, March 4, 2002, make the following correction:

On page 9641, in the third column, under the DATES: section, in the third line, “April 3, 2002” should read “April 18, 2002”.

[FR Doc. C2-5081 Filed 3-8-02; 8:45 am]

BILLING CODE 1505-01-D

DEPARTMENT OF THE INTERIOR

Bureau of Land Management

[ES-020-1320-EL]

Notice of Intent to Prepare a Land Use Analysis/Environmental Assessment

Correction

In notice document 02-4147 beginning on page 8033, in the issue of Thursday, February 21, 2002, make the following corrections:

1. On page 8033, in the third column, under the heading SUMMARY:, in the fifth line, “50213” should read, “51088”.

2. On the same page, in the same column, under the same heading, in the same line, “315.13” should read, “64.51”.

[FR Doc. C2-4147 Filed 3-8-02; 8:45 am]

BILLING CODE 1505-01-D

DEPARTMENT OF TRANSPORTATION

Federal Aviation Administration

14 CFR Part 39

[Docket No. 2001-NM-253-AD; Amendment 39- 12633; AD 2002-02-05]

RIN 2120-AA64

Airworthiness Directives: Airbus Model A300 B2 and A300 B4; A300 B4-600, B4-600R, and F4-600R (Collectively Called A300-600); and Model A310 Series Airplanes

Correction

In rule document 02-2926 beginning on page 6376, in the issue of Tuesday, February 12, 2002, make the following correction:

§39.13 [Corrected]

On page 6378, in §39.13, in table 1, under the column“ In accordance with”, in the fifth line, “A300-29-6004” should read, “A300-29-6003”.

[FR Doc. C2-2926 Filed 3-8-02; 8:45 am]

BILLING CODE 1505-01-D